DEPARTMENT OF COMMERCE

Foreign-Trade Zones Board

[Order No. 2108]

Reorganization of Foreign-Trade Zone 208 Under Alternative Site Framework; New London, Connecticut

Pursuant to its authority under the Foreign-Trade Zones Act of June 18, 1934, as amended (19 U.S.C. 81a-81u), the Foreign-Trade Zones Board (the Board) adopts the following Order:

Whereas, the Foreign-Trade Zones (FTZ) Act provides for “. . .the establishment . . . of foreign-trade zones in ports of entry of the United States, to expedite and encourage foreign commerce, and for other purposes,” and authorizes the Board to grant to qualified corporations the privilege of establishing foreign-trade zones in or adjacent to U.S. Customs and Border Protection ports of entry;

Whereas, the Board adopted the alternative site framework (ASF) (15 CFR Sec. 400.2(c)) as an option for the establishment or reorganization of zones;

Whereas, the New London Foreign Trade Zone Commission, grantee of Foreign-Trade Zone 208, submitted an application to the Board (FTZ Docket B-44-2020, docketed July 13, 2020) for authority to reorganize under the ASF with a service area of New London County, Connecticut, adjacent to the New London Customs and Border Protection port of entry, and FTZ 208's existing Site1 would be categorized as a magnet site;

Whereas, notice inviting public comment was given in the Federal Register (85 FR 44040, July 21, 2020) and the application has been processed pursuant to the FTZ Act and the Board's regulations; and,

Whereas, the Board adopts the findings and recommendations of the examiner's report, and finds that the requirements of the FTZ Act and the Board's regulations are satisfied;

Now, therefore, the Board hereby orders:

The application to reorganize FTZ 208 under the ASF is approved, subject to the FTZ Act and the Board's regulations, including Section 400.13, to the Board's standard 2,000-acre activation limit for the zone, and to an ASF sunset provision for magnet sites that would terminate authority for Site 1 if not activated within five years from the month of approval.

Dated: December 17, 2020.
Jeffrey I. Kessler,
Assistant Secretary for Enforcement and Compliance, Alternate Chairman, Foreign-Trade Zones Board.

[FR Doc. 2020-28206 Filed 12-21-20; 8:45 am]

BILLING CODE 3510-DS-P